DEPARTMENT OF ENERGY

Federal Energy Regulatory Commission

[Project No. 2612-005]

FPL Energy Maine Hydro; Notice of Telephone Conference

January 21, 2000.

The Commission staff, Maine Department of Environmental Protection, and FPL Energy Maine Hydro (FPL) will conduct a telephone conference at 10:00 a.m. Eastern Standard Time (EST), on February 8, 2000, to update staff on the status of FPL's pending application for Water Quality Certification and how this issue may affect FPL's application for a new license in this proceeding.

Parties in the new license application proceeding wishing to take part in the conference call may do so by calling (800) 545-4387 on February 8, 2000 and informing the operator that they want to be part of the Flagstaff Storage Project conference call and giving the operator the conference call identification number M-12047. The operator will start accepting requests to be a part of the conference call at 9:45 a.m. EST prior to the 10:00 a.m. EST meeting. If you have any questions regarding this notice, please contact Ms. Amy Chang at (202) 208-1199 or send an e-mail to amy.chang@ferc.fed.us.

David P. Boergers,
Secretary.

[FR Doc. 00-1948 Filed 1-26-00; 8:45 am]

BILLING CODE 6717-01-M